BROADCASTING BOARD OF GOVERNORS

Sunshine Act Meeting

TIME AND DATE: Tuesday, May 24, 2016, 9:30 a.m. EDT.

PLACE: Broadcasting Board of Governors, Cohen Building, Room 3321, 330 Independence Ave. SW., Washington, DC 20237.

STATUS: Notice of Closed Meeting of the Broadcasting Board of Governors.

MATTERS TO BE CONSIDERED: At the time and location listed above, the Broadcasting Board of Governors (BBG) will conduct a special telephonic meeting closed to the public pursuant to 5 U.S.C. 552b(c)(9)(B) in order to protect and prevent disclosure of the discussions related to BBG reform legislation, including premature disclosure of a discussion which would be likely to significantly frustrate implementation of a proposed agency action.

In accordance with the Government in the Sunshine Act and BBG policies, the meeting will be recorded and a transcript of the proceedings, subject to the redaction of information protected by 5 U.S.C. 552b(c)(9)(B), will be made available to the public. The publicly-releasable transcript will be available for download at www.bbg.gov promptly per 5 U.S.C. 552b(f).

Information regarding member votes to close the meeting and expected attendees can also be found on the Agency's public Web site.

CONTACT PERSON FOR MORE INFORMATION: Persons interested in obtaining more information should contact Oanh Tran at (202) 203-4545.

Oanh Tran,
Director of Board Operations.

[FR Doc. 2016-12527 Filed 5-24-16; 11:15 am]

BILLING CODE 8610-01-P